DEPARTMENT OF COMMERCE

National Oceanic and Atmospheric Administration

[RTID 0648-XB913]

Western Pacific Fishery Management Council (Council); Public Meeting

AGENCY: National Marine Fisheries Service (NMFS), National Oceanic and Atmospheric Administration (NOAA), Commerce.

ACTION: Notice; public meeting.

SUMMARY: The Western Pacific Stock Assessment Review (WPSAR) Steering Committee will convene a public meeting to discuss and approve the 5-year calendar for stock assessments, and to address any other concerns related to the WPSAR process.

DATES: The Steering Committee will meet from 1 p.m. to 3 p.m. on April 13, 2022.

ADDRESSES: The meetings will be held by web conference. Audio and visual portions of the web conference can be accessed at: https://wprfmc.webex.com/wprfmc/j.php?MTID=m2c2914733846c6790ffb9cffdb1b9462. Web conference access information will also be posted on the Council's website at www.wpcouncil.org. For assistance with the web conference connection, contact the Council office at (808) 522-8220.

FOR FURTHER INFORMATION CONTACT: Marlowe Sabater; phone: (808) 522-8143, or email: marlowe.sabater@noaa.gov.

SUPPLEMENTARY INFORMATION: The WPSAR Steering Committee consists of the Council's Executive Director, the Director of the NMFS Pacific Islands Fisheries Science Center, and the Regional Administrator of the NMFS Pacific Islands Regional Office. You may read more about WPSAR at https://www.pifsc.noaa.gov/peer_reviews/wpsar/index.php.

The public will have an opportunity to comment during the meeting. The agenda order may change. The meeting will run as late as necessary to complete scheduled business.

Meeting Agenda

1. Introductions

2. Update on Science Policies

3. NMFS Stock Assessment Prioritization

4. NMFS Policy Directive 01-101-10

5. Essential Fish Habitat Model Tier 1 Review

6. Discuss and update 5-year stock assessment review schedule and review levels, including any changes to the scheduling of reviews for stock assessments already on the calendar, and any new additions to the schedule

7. Review the upcoming schedule and nominate additional products for review by the Center for Independent Experts, if necessary.

8. Other business

9. Public comment

Special Accommodations

The meeting is physically accessible to people with disabilities. Make direct requests for sign language interpretation or other auxiliary aids to Marlowe Sabater at (808) 522-8143 or marlowe.sabater@noaa.gov, at least 5 days prior to the meeting date.

(Authority: 16 U.S.C. 1801 et seq.)

Dated: March 24, 2022.
Tracey L. Thompson,
Acting Deputy Director, Office of Sustainable Fisheries, National Marine Fisheries Service.

[FR Doc. 2022-06554 Filed 3-28-22; 8:45 am]

BILLING CODE 3510-22-P